DEPARTMENT OF THE INTERIOR

National Park Service

[NPS-WASO-NAGPRA-NPS0034714; PPWOCRADN0-PCU00RP14.R50000]

Notice of Inventory Completion: Michigan State Historic Preservation Office, Lansing, MI

AGENCY: National Park Service, Interior.

ACTION: Notice.

SUMMARY: The Michigan State Historic Preservation Office (Michigan SHPO) has completed an inventory of human remains and an associated funerary object, in consultation with the appropriate Indian Tribes or Native Hawaiian organizations, and has determined that there is no cultural affiliation between the human remains and the associated funerary object and any present-day Indian Tribes or Native Hawaiian organizations. Representatives of any Indian Tribe or Native Hawaiian organization not identified in this notice that wish to request transfer of control of these human remains and this associated funerary object should submit a written request to the Michigan SHPO. If no additional requestors come forward, transfer of control of the human remains and the associated funerary object to the Indian Tribes or Native Hawaiian organizations stated in this notice may proceed.

DATES: Representatives of any Indian Tribe or Native Hawaiian organization not identified in this notice that wish to request transfer of control of these human remains and this associated funerary object should submit a written request with information in support of the request to the Michigan SHPO at the address in this notice by November 16, 2022.

FOR FURTHER INFORMATION CONTACT: Michael Hambacher, Staff Archaeologist, State Historic Preservation Office, Michigan Economic Development Corporation, 300 N Washington Square, Lansing, MI 48913, telephone (517) 243-9513, email hambacherm@michigan.gov.

SUPPLEMENTARY INFORMATION: Notice is here given in accordance with the Native American Graves Protection and Repatriation Act (NAGPRA), 25 U.S.C. 3003, of the completion of an inventory of human remains and an associated funerary object under the control of the Michigan State Historic Preservation Office, Lansing, MI. The human remains and the associated funerary object were removed from Wexford County, MI.

This notice is published as part of the National Park Service's administrative responsibilities under NAGPRA, 25 U.S.C. 3003(d)(3) and 43 CFR 10.11(d). The determinations in this notice are the sole responsibility of the museum, institution, or Federal agency that has control of the Native American human remains and the associated funerary object. The National Park Service is not responsible for the determinations in this notice.

Consultation

A detailed assessment of the human remains and the associated funerary object was made by the Michigan SHPO professional staff in consultation with representatives of the Bay Mills Indian Community, Michigan; Chippewa Cree Indians of the Rocky Boy's Reservation, Montana (previously listed as Chippewa-Cree Indians of the Rocky Boy's Reservation, Montana); Grand Traverse Band of Ottawa and Chippewa Indians, Michigan; Keweenaw Bay Indian Community, Michigan; Lac Vieux Desert Band of Lake Superior Chippewa Indians of Michigan; Little Shell Tribe of Chippewa Indians of Montana; Minnesota Chippewa Tribe, Minnesota (Mille Lacs Band); Saginaw Chippewa Indian Tribe of Michigan; and the Sault Ste. Marie Tribe of Chippewa Indians, Michigan. In addition, the Bad River Band of the Lake Superior Tribe of Chippewa Indians of the Bad River Reservation, Wisconsin; Lac Courte Oreilles Band of Lake Superior Chippewa Indians of Wisconsin; Lac du Flambeau Band of Lake Superior Chippewa Indians of the Lac du Flambeau Reservation of Wisconsin; Minnesota Chippewa Tribe, Minnesota (Bois Forte Band (Nett Lake); Fond du Lac Band; Grand Portage Band; Leech Lake Band; White Earth Band); Ottawa Tribe of Oklahoma; Red Cliff Band of Lake Superior Chippewa Indians of Wisconsin; Red Lake Band of Chippewa Indians, Minnesota; Sokaogon Chippewa Community, Wisconsin; St. Croix Chippewa Indians of Wisconsin; and the Turtle Mountain Band of Chippewa Indians of North Dakota were invited to consult but did not participate. Hereafter all the Indian Tribes listed in this section are referred to as “The Consulted and Invited Tribes.”

History and Description of the Human Remains

In October of 1957, human remains and an associated object representing, at minimum, three individuals were removed from the Sun and Snow Mounds site (20WX7) in Wexford County, MI. Records of the University of Michigan Museum of Anthropological Archaeology (UMMAA) note that the Director of the Cadillac-Wexford Public Library donated the human remains and the associated funerary object to the Museum on December 23, 1957. The human remains reportedly came from two separate burials, but how the site was found and how the human remains and associated funerary object were collected are unclear. The human remains include one child, 4-6 years old; one adolescent, 16-19 years old, possibly male; and one adult, indeterminate sex. The human remains date to the Woodland Period (850 B.C.-A.D. 1400) based on the diagnostic chert blade. No known individuals were identified. The one associated funerary object is one chert blade.

Determinations Made by the Michigan State Historic Preservation Office

Officials of the Michigan State Historic Preservation Office have determined that:

• Pursuant to 25 U.S.C. 3001(9), the human remains described in this notice are Native American based on cranial morphology, dental traits, accession documentation, and archeological context.

• Pursuant to 25 U.S.C. 3001(9), the human remains described in this notice represent the physical remains of three individuals of Native American ancestry.

• Pursuant to 25 U.S.C. 3001(3)(A), the one object described in this notice is reasonably believed to have been placed with or near individual human remains at the time of death or later as part of the death rite or ceremony.

• Pursuant to 25 U.S.C. 3001(2), a relationship of shared group identity cannot be reasonably traced between the Native American human remains and the associated funerary object and any present-day Indian Tribe.

• According to final judgments of the Indian Claims Commission or the Court of Federal Claims, the land from which the Native American human remains were removed is the aboriginal land of The Consulted and Invited Tribes.

• Treaties, Acts of Congress, or Executive Orders, indicate that the land from which the Native American human remains and the associated funerary object were removed is the aboriginal land of The Consulted and Invited Tribes.

• Pursuant to 43 CFR 10.11(c)(1), the disposition of the human remains and the associated funerary object may be to The Consulted and Invited Tribes.

Additional Requestors and Disposition

Representatives of any Indian Tribe or Native Hawaiian organization not identified in this notice that wish to request transfer of control of these human remains and this associated funerary object should submit a written request with information in support of the request to Michael Hambacher, Staff Archaeologist, State Historic Preservation Office, Michigan Economic Development Corporation, 300 N. Washington Square, Lansing, MI 48913, telephone (517) 243-9513, email hambacherm@michigan.gov, by November 16, 2022. After that date, if no additional requestors have come forward, transfer of control of the human remains and the associated funerary object to The Consulted and Invited Tribes may proceed.

The Michigan State Historic Preservation Office is responsible for notifying The Consulted and Invited Tribes that this notice has been published.

Dated: October 5, 2022.
Melanie O'Brien,
Manager, National NAGPRA Program.

[FR Doc. 2022-22516 Filed 10-14-22; 8:45 am]

BILLING CODE 4312-52-P